DEPARTMENT OF STATE

[Public Notice 5220]

Shipping Coordinating Committee; Notice of Meetings

The Working Group on Radio Communications and Search and Rescue of the Subcommittee on Safety of Life at Sea will conduct open meetings at 1 P.M. on Friday January 5, 2006, at the Radio Technical Commission for Maritime Services, 1800 North Kent Street, Suite 1060, Arlington, VA 22209. The purpose of this meeting is to prepare for the Tenth Session of the International Maritime Organization (IMO) Subcommittee on Radiocommunications and Search and Rescue, which is scheduled for the week of March 6-10, 2006, at IMO headquarters in London, England. The primary matters to be considered are:

—Maritime Safety Information for GMDSS

—Development of a procedure for recognition of mobile satellite systems

—Large passenger ship safety

—Emergency radiocommunications, including false alerts and interference

—Issues related to maritime security

—Matters concerning Search and Rescue

—Developments in maritime radiocommunication systems and technology

—Planning for the 11th session of COMSAR

Members of the public may attend these meetings up to the seating capacity of the room. Interested persons may seek information or by writing: Mr. Russell S. Levin, U.S. Coast Guard Headquarters, Commandant (CG-622), Room 6611, 2100 Second Street, SW., Washington, DC 20593-0001, by calling: (202) 267-1389, or by sending Internet electronic mail to rlevin@comdt.uscg.mil and viewing http://www.navcen.uscg.gov/marcomms/imo/meetings.htm.

Dated: December 16, 2005.
Clay Diamond,
Executive Secretary, Shipping Coordinating Committee, Department of State.

[FR Doc. 05-24522 Filed 12-27-05; 8:45 am]

BILLING CODE 4710-09-P